NATIONAL SCIENCE FOUNDATION

Notice of Permit Applications Received Under the Antarctic Conservation Act of 1978 (P.L. 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 12, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant—Permit Application No. 2004-008

Patrick Shore, Department of Earth and Planetary Sciences, Washington University, One Brookings Drive, St. Louis, MO 63130.

Activity for Which Permit Is Requested

Enter Antarctic Specially Protected Area

The applicant proposes to enter the Barwick Valley Antarctic Specially Protected Area (ASPA # 123) to remove seismic equipment, solar panels, and all other associated equipment. This seismic station was established in December 2001, before the boundaries of the Barwick Valley were modified to include the seismic station's location. Removal of the station will prevent further need to access the Specially Protected Area.

Location

ASPA #123—Barwick Valley, Victoria Land

Dates

November 1, 2003—December 31, 2003

2. Applicant—Permit Application No. 2004-009

Robert L. Pitman, NOAA/NMFS, Southwest Fisheries Science Center, 8604 La Jolla Shores Drive, La Jolla, CA 92037.

Activity for Which Permit Is Requested

Take and Import into the U.S.A. The applicant proposes to collect up to 200 biopsy samples (tiny bits of skin—the size of a pencil eraser) from Antarctic killer whales using a crossbow or modified rifle. The samples will be studied to determine the taxonomic status of the three different morphotypes recently observed in Antarctic waters. These biopsy techniques have been used to sample thousands of whales and dolphins over the years with little or no disturbance to the animals. The applicant will take the samples from a launch or the bow of a larger ship.

Location

At sea in Antarctic waters, continent-wide

Dates

December 15, 2003 to March 31, 2005

3. Applicant—Permit Application No. 2004-010

Paul J. Ponganis, Center for Marine Biotechnology/Biomedicine, Scripps Institute of Oceanography, University of California, San Diego, La Jolla, CA 92093-0204.

Activity for Which Permit Is Requested

Take, Enter Antarctic Specially Protected Areas, and Import into the U.S.A. The applicant proposes to capture and release up to 80 adult and 20 Emperor chicks. Diving physiology studies will be conducted on birds diving at an isolated dive hole in McMurdo Sound. Blood and tissues samples will be taken to examine blood oxygen and nitrogen levels in order to understand how emperors dive so deeply, and yet avoid complications such as decompression sickness (“the bends”), hypoxemia, and shallow water blackout. In addition, antioxidant and oxygen free radical scavenging enzymes will be examined in tissue biopsy samples in order to understand the biochemical mechanisms, which may protect tissues from free radical damage during diving. Diving behavior (stroke frequency and prey capture) will be investigated at the dive hole with application of accelerometer recorders and digital cameras. Penguins will be equipped with one of a variety of microprocessor recorders (depth recorder, P02 recorder, ECG recorder, accelerometer, blood sampler, or digital camera). Any electrodes or catheters are implanted under general anesthesia with techniques developed on prior projects; birds dive with the recorders for 1-2 days after which the microprocessors are removed and downloaded; for the blood sampler, it is removed once a sample is taken in order to allow analyses to be performed. Tissue samples will be obtained under general anesthesia with biopsy techniques developed on past projects.

In addition the applicant proposes to continue annual censuses at emperor colonies in order to continue monitoring colony status, especially in relation to the B15 iceberg. This will require entrance into the Cape Crozier (ASPA #124) and Beaufort Island (ASPA #105) Antarctic Specially Protected Areas. The applicant also proposes to collect up to 10 frozen emperor penguin carcasses found on the sea ice per year, and return them to the U.S. for anatomical studies.

Location

Cape Washington, Cape Crozier (ASPA #124) and Beaufort Island (ASPA #105).

Dates

September 1, 2003 to January 31, 2006.

Nadene G. Kennedy,
Permit Officer, Office of Polar Programs.

[FR Doc. 03-20597 Filed 8-12-03; 8:45 am]

BILLING CODE 7555-01-M